DEPARTMENT OF AGRICULTURE

Agricultural Research Service

Notice of Intent To Grant Exclusive License

AGENCY: Agricultural Research Service, USDA.

ACTION: Notice of intent.

SUMMARY: Notice is hereby given that the U.S. Department of Agriculture, Agricultural Research Service, intends to grant to Lysando AG of Triesenberg, Liechtenstein, an exclusive license to U.S. Patent Application Serial No. 12/470,321, “LAMBDASA2 ENDOLYSIN TRUNCATION”, filed on May 21, 2009; U.S. Patent Application Serial No. 12/874,138, “BACTERIOPHAGE LYTIC ENZYMES AS ALTERNATIVE ANTIMICROBIALS”, filed on September 1, 2010; U.S. Patent Application Serial No. 12/460,812, “TRIPLE ACTING ANTIMICROBIALS THAT ARE REFRACTORY TO RESISTANCE DEVELOPMENT”, filed on July 24, 2009; and U.S. Patent Application Serial No. 12/784,675, “FUSION OF PEPTIDOGLYCAN HYDROLASE ENZYMES TO A PROTEIN TRANSDUCTION DOMAIN ALLOWS ERADICATION OF BOTH EXTRACELLULAR AND INTRACELLULAR GRAM POSITIVE”, filed on July 24, 2009.

DATES: Comments must be received on or before April 12, 2013.

ADDRESSES: Send comments to: USDA, ARS, Office of Technology Transfer, 5601 Sunnyside Avenue, Rm. 4-1174, Beltsville, Maryland 20705-5131.

FOR FURTHER INFORMATION CONTACT: June Blalock of the Office of Technology Transfer at the Beltsville address given above; telephone: 301-504-5989.

SUPPLEMENTARY INFORMATION: The Federal Government's patent rights in these inventions are assigned to the United States of America, as represented by the Secretary of Agriculture. It is in the public interest to so license these inventions as Lysando AG of Triesenberg, Liechtenstein has submitted a complete and sufficient application for a license. The prospective exclusive license will be royalty-bearing and will comply with the terms and conditions of 35 U.S.C. 209 and 37 CFR 404.7. The prospective exclusive license may be granted unless, within thirty (30) days from the date of this published Notice, the Agricultural Research Service receives written evidence and argument which establishes that the grant of the license would not be consistent with the requirements of 35 U.S.C. 209 and 37 CFR 404.7.

Robert Griesbach,
Assistant Administrator.

[FR Doc. 2013-05764 Filed 3-12-13; 8:45 am]

BILLING CODE 3410-03-P